DEPARTMENT OF HEALTH AND HUMAN SERVICES

National Institutes of Health

National Center for Complementary & Integrative Health; Amended; Notice of Meeting

Notice is hereby given of a change in the meeting of the National Advisory Council for Complementary and Integrative Health, October 2, 2015, 8:30 a.m. to October 2, 2015, 03:35 p.m., National Institutes of Health, Building 31, 31 Center Drive, Conference Room 10, Bethesda, MD 20892 which was published in the Federal Register on September 8, 2015, 80 FR 53814.

This meeting notice is amended to change the time of the OPEN SESSION from 10 a.m. to 9:30 a.m. (ET). The meeting is partially Closed to the public.

Dated: September 11, 2015.
Michelle Trout,
Program Analyst, Office of Federal Advisory Committee Policy.

[FR Doc. 2015-23252 Filed 9-15-15; 8:45 am]

BILLING CODE 4140-01-P